DEPARTMENT OF ENERGY

Federal Energy Regulatory Commission

[Project No. P-6564]

Jane A. Horning; Notice of Site Visit

January 13, 2003.

Jane A. Horning, exemptee, for the Brunswick Creek Hydroelectric Project (project), in Washington County, North Plains, Oregon, requests to surrender her exemption. On January 30, 2003, the staff of the Office of Energy Projects (OEP) will conduct a site visit of the project. Representatives of the project will accompany the OEP staff. All interested parties may meet at 9 a.m. at the project powerhouse located near the Brunswick Creek dam. Attendees must provide their own transportation.

For further information, please contact Blake Condo at (202) 502-8914 or the Commission's Office of External Affairs at (866) 208-FERC.

Magalie R. Salas,
Secretary.

[FR Doc. 03-1171 Filed 1-16-03; 8:45 am]

BILLING CODE 6717-01-P